DEPARTMENT OF LABOR

Employment and Training Administration

[TA-W-40,331]

Georgia-Pacific West Camas, Washington; Notice of Affirmative Determination Regarding Application for Reconsideration

By letter of February 8, 2002, the workers requested administrative reconsideration of the Department of Labor's Notice of Negative Determination Regarding Eligibility to Apply for Worker Adjustment Assistance, petition TA-W-40,331. The denial notice was signed on December 31, 2002 and published in the Federal Register on January 11, 2002 (67 FR 1510).

The Department has reviewed the request for reconsideration and has determined that further survey of customers of the subject firm would be appropriate.

Conclusion

After careful review of the application, I conclude that the claim is of sufficient weight to justify reconsideration of the Department of Labor's prior decision. The application is, therefore, granted.

Signed at Washington, DC, this 10th day of April 2002.
Edward A. Tomchick,
Director, Division of Trade Adjustment Assistance.

[FR Doc. 02-10900 Filed 5-1-02; 8:45 am]

BILLING CODE 4510-30-M